NUCLEAR REGULATORY COMMISSION

10 CFR Parts 1, 2, 10, 19, 20, 21, 25, 26, 50, 51, 52, 54, 55, 72, 73, 75, 95, 140, and 170

RIN 3150—AG24

Licenses, Certifications, and Approvals for Nuclear Power Plants

AGENCY: Nuclear Regulatory Commission.

ACTION: Availability of draft proposed rule.

SUMMARY: The Nuclear Regulatory Commission (NRC) is making available the draft wording of a proposed amendment of its regulations. The proposal would amend Title 10 of the Code of Federal Regulations (10 CFR) part 52, “Early Site Permits; Standard Design Certifications; and Combined Licenses for Nuclear Power Plants,” and associated regulations based on experience gained from early site permit (ESP) and design certification reviews and discussions with stakeholders on the ESP and combined license (COL) processes. The changes should improve the effectiveness and efficiency of the licensing processes for future applicants. The availability of the draft rule language is intended to inform stakeholders of the current status of the NRC staff's activities to amend 10 CFR part 52.

Publicly available documents related to this rulemaking may be viewed electronically on the public computers located at the NRC's Public Document Room (PDR), O1 F21, One White Flint North, 11555 Rockville Pike, Rockville, Maryland. The PDR reproduction contractor will copy documents for a fee. Selected documents can be viewed and downloaded electronically via the NRC rulemaking Web site at http://ruleforum.llnl.gov.

Publicly available documents created or received at the NRC after November 1, 1999, are available electronically at the NRC's Electronic Reading Room at http://www.nrc.gov/NRC/ADAMS/index.html. From this site, the public can gain entry into the NRC's Agencywide Document Access and Management System (ADAMS), which provides text and image files of NRC's public documents. If you do not have access to ADAMS or if there are problems in accessing the documents located in ADAMS, contact the NRC PDR Reference staff at 1-800-397-4209, 301-415-4737, or by e-mail to pdr@nrc.gov.

FOR FURTHER INFORMATION CONTACT: Nanette V. Gilles, Office of Nuclear Reactor Regulation, U.S. Nuclear Regulatory Commission, Washington, DC 20555-0001, telephone (301) 415-1180, e-mail nvg@nrc.gov; or Jerry N. Wilson, Office of Nuclear Reactor Regulation, U.S. Nuclear Regulatory Commission, Washington DC 20555-0001; telephone (301) 415-3145; e-mail jnw@nrc.gov.

SUPPLEMENTARY INFORMATION: On July 3, 2003, the NRC published a proposed rulemaking (68 FR 40026) to (1) clarify and/or correct 10 CFR parts 2, 20, 21, 50, 51, 52 (including Appendices A, B, and C), 72, 73, 140, and 170; (2) update 10 CFR part 52; and (3) incorporate stakeholder comments. Upon further consideration by the NRC staff, the staff intends to recommend that the Commission re-propose amendments to part 52 and other parts of 10 CFR with associated changes that would supersede the July 2003 proposed rule.

The NRC has developed draft wording for the changes to its regulations and has made them available on the NRC's rulemaking Web site at http://ruleforum.llnl.gov. This draft rule language is preliminary and may be incomplete in one or more respects. This draft rule language is being released to inform our stakeholders of the current status of the part 52 update rulemaking. In order to facilitate stakeholder review, the draft rule language is posted in three separate files: part 52, part 50, and all of the remaining parts of 10 CFR that have proposed changes. The NRC is not requesting comments on this draft rule language. Rather, comments will be requested when the re-proposed rule is published in the Federal Register.

Following the close of the public comment period on the July 2003 rule, a number of factors led the staff to question whether the proposed rule would meet the Commission's objective of improving the effectiveness of NRC's regulatory processes for future nuclear power facilities. First, several public comments identified concerns regarding whether the proposed rule adequately addressed the relationship between part 50 and part 52 and clearly specified the applicable regulatory requirements for each of the regulatory processes in part 52. In addition, during the period of public comment and thereafter, the staff gained additional insights about ESPs as a result of the review of the first three ESP applications. The staff also had the benefit of public meetings with external stakeholders on developing NRC staff guidance on ESPs and COLs. As a result of these factors, the staff decided that a substantial rewrite and expansion of the original rulemaking would be necessary to ensure that the entire body of NRC regulations is able to support the agency's licensing and regulation of future nuclear power facilities under part 52.

The proposed rule is intended to ensure that all regulatory processes in part 52 are addressed in that part and throughout the Commission's regulations and that there is no ambiguity with respect to the applicability of various requirements to each if the regulatory processes in part 52 (i.e., early site permit, standard design approval, standard design certification, combinded license and manufacturing license).

Accordingly, the staff has developed this draft re-proposed rule and intends to recommend that it supersede the July 2003 proposed rule. The draft re-proposed rule contains a rewrite of part 52, as well as changes throughout 10 CFR to ensure that all regulatory processes in part 52 are addressed and to remove ambiguity with respect to the applicability of various requirements to each of the regulatory processes in part 52.

Dated at Rockville, Maryland, this 29th day of August, 2005.
For the Nuclear Regulatory Commission.
William D. Beckner,
Director, New, Research, and Test Reactors Program, Division of Regulatory Improvement Programs, Office of Nuclear Regulator Regulation.

[FR Doc. 05-17494 Filed 9-2-05; 8:45 am]

BILLING CODE 7590-01-P